DEPARTMENT OF COMMERCE

National Oceanic and Atmospheric Administration

Agency Information Collection Activities; Submission to the Office of Management and Budget (OMB) for Review and Approval; Comment Request; Mackerel, Squid, and Butterfish Amendment 14 Data Collection

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 17, 2024, during a 60-day comment period. This notice allows for an additional 30 days for public comments.

Agency: National Oceanic and Atmospheric Administration, Commerce.

Title: Atlantic Mackerel, Squid, and Butterfish Amendment 14 Data Collection.

OMB Control Number: 0648-0679.

Form Number(s): None.

Type of Request: Regular submission (extension of a current information collection).

Number of Respondents: 10,035.

Average Hours per Response: Pre-trip notification to observer program, 5 minutes; Trip Cancellation notification to observer program, 1 minute; Released Catch Affidavit, 5 minutes; and Vessel Permit Swap Form, 5 minutes.

Total Annual Burden Hours: 766 hours.

Needs and Uses: This is a request for renewal of an approved information collection. Under the Magnuson-Stevens Fishery Conservation and Management Act, the Secretary of Commerce has the responsibility for the conservation and management of marine fishery resources. Much of this responsibility has been delegated to the NOAA's National Marine Fisheries Service (NMFS). Under this stewardship role, the Secretary was given certain regulatory authorities to ensure the most beneficial uses of these resources. One of the regulatory steps taken to care out the conservation and management objectives is to collect information from users of the resources.

This collection requires limited access mackerel and longfin squid/butterfish moratorium permit holders to bring all catch aboard the vessel and make it available for sampling by an observer. If catch is not made available to an observer before discard, that catch is defined as slippage, and the vessel operator must complete a “Released Catch Affidavit” form within 48 hours of the end of the fishing trip which details why catch was slipped, estimates the quantity and species composition of the slipped catch, and records the time and location of the slipped catch.

This collection also requires any vessel with a limited access mackerel permit intending to land over 20,000 lb of mackerel to contact NMFS at least 48 hours in advance of a fishing trip to request an observer. Vessels currently contact NMFS via phone, and selection notices or waivers are issued by NMFS via VMS. If service providers are unable to provide coverage, an owner, operator, or vessel manager may request a waiver by calling the Northeast Fisheries Observer Program. Additionally, if a fishing trip is cancelled, vessels must notify NMFS of the cancelled trip to prevent observers from being deployed to a cancelled trip.

Affected Public: Business or other for-profit organizations; individual or households, state, local, or tribal government.

Frequency: Pre-trip notification to observer program, on occasion; Trip Cancellation notification to observer program, on occasion; Released Catch Affidavit, on occasion; and Vessel Permit Swap Form, maximum of once.

Respondent's Obligation: Mandatory.

Legal Authority: The Magnuson-Stevens Fishery Management and Conservation Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0679.

Sheleen Dumas,
Department PRA Clearance Officer, Office of the Under Secretary for Economic Affairs, Commerce Department.

[FR Doc. 2024-25759 Filed 11-5-24; 8:45 am]

BILLING CODE 3510-22-P